SECURITIES AND EXCHANGE COMMISSION

[File No. 500-1]

PacWest Equities, Inc.; Order of Suspension of Trading

September 17, 2013.

It appears to the Securities and Exchange Commission that there is a lack of current and accurate information concerning the securities of PacWest Equities, Inc. (“PacWest”) because of questions regarding the accuracy of assertions by PacWest in public statements regarding the company's business operations and assets. PacWest, a Company that has made no public filings with the Commission, is a Nevada corporation based in Las Vegas, Nevada. It is quoted on OTC Link under the symbol PWEI.

The Commission is of the opinion that the public interest and the protection of investors require a suspension of trading in the securities of the above-listed company.

Therefore, it is ordered, pursuant to Section 12(k) of the Securities Exchange Act of 1934, that trading in the securities of the above-listed company is suspended for the period from 9:30 a.m. e.d.t. on September 17, 2013 through 11:59 p.m. e.d.t., on September 30, 2013.

By the Commission.
Elizabeth M. Murphy,
Secretary.

[FR Doc. 2013-22910 Filed 9-17-13; 4:15 pm]

BILLING CODE 8011-01-P